NUCLEAR REGULATORY COMMISSION

Public Meeting on Standard Review Plan

AGENCY: Nuclear Regulatory Commission (NRC).

ACTION: Notice of meeting.

SUMMARY: NRC will host a public meeting in Rockville, Maryland. The meeting will provide an opportunity for discussion on the draft NUREG-1520, Standard Review Plan (SRP), Chapter 3. The revised SRP Chapter 3 can be found on the Internet at the following website: http://techconf.llnl.gov/cgi-bin/library?source=*& library=Part_70_lib The web site can also be reached by the following method:

1. Go the main NRC web site at: http://www.nrc.gov

2. Scroll down to the bottom of that page and click on the word “Rulemaking.”

3. Scroll down on the Rulemaking page until the words “Technical Conference” appear. Click on those words.

4. On the page titled “Welcome to the NRC Technical Conference Forum,” click on the link to participate in Technical Conferences.

5. Scroll down to the topic “Draft Standard Review Plan and Guidance on Amendment to 10 CFR Part 70.”

6. Select “Document Library.”

PURPOSE: This meeting will provide an opportunity to discuss comments on the staff's revised Chapter 3, including the Nuclear Energy Institute's November 16, 2000 comment letter to the NRC.

DATES: The meeting is scheduled for Thursday, February 8, 2001, from 1:30 p.m. to 5:30 p.m. The meeting is open to the public.

ADDRESSES: One White Flint North, 11555 Rockville Pike, Room O-16-B4, Rockville, Maryland. Visitor parking around the NRC building is limited; however, the meeting site is located adjacent to the White Flint Station on the Metro Red Line.

FOR FURTHER INFORMATION CONTACT: Thomas Cox, Project Manager, Fuel Cycle Licensing Branch, Division of Fuel Cycle and Safeguards, Office of Nuclear Material Safety and Safeguards, U.S. Nuclear Regulatory Commission, Washington, DC 20555, telephone: (301) 415-8107, e-mail thc@nrc.gov.

Dated at Rockville, Maryland this 24th day of January, 2001.
For the Nuclear Regulatory Commission.
Philip Ting,
Chief, Fuel Cycle Licensing Branch, Division of Fuel Cycle Safety and Safeguards, Office of Nuclear Material Safety and Safeguards.

[FR Doc. 01-2745 Filed 1-31-01; 8:45 am]

BILLING CODE 7590-01-U